DEPARTMENT OF VETERANS AFFAIRS

[OMB Control No. 2900-0469]

Agency Information Collection Activity Under OMB Review: Certificate Showing Residence and Heirs of Deceased Veterans or Beneficiary

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Comments must be submitted on or before March 14, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-00469” in any correspondence.

FOR FURTHER INFORMATION CONTACT: Cynthia Harvey-Pryor, Enterprise Records Service (005R1B), Department of Veterans Affairs, 810 Vermont Avenue NW, Washington, DC 20420, (202) 461-5870 or email cynthia.harvey-pryor@va.gov. Please refer to “OMB Control No. 2900-0469” in any correspondence.

SUPPLEMENTARY INFORMATION:

Authority: 44 U.S.C. 3501-21.

Title: Certificate Showing Residence and Heirs of Deceased Veterans of Beneficiary VA Form 29-541.

OMB Control Number: 2900-0469.

Type of Review: Reinstatement of a Previously Approved Collection.

Abstract: The form is used by the Department of Veterans Affairs (VA) to establish entitlement to Government Life Insurance proceeds in estate cases when formal administration of the estate is not required. The information on the form is required by law, Title 38, U.S.C. Sections 1817 and 1950. This form was allowed to expire due to high level of work volume and staffing changes.

An agency may not conduct or sponsor, and a person is not required to respond to a collection of information unless it displays a currently valid OMB control number. The Federal Register Notice with a 60-day comment period soliciting comments on this collection of information was published at 82 FR 233 on December 6, 2017, page 57653.

Affected Public: Individuals or Households.

Estimated Annual Burden: 1,039 Hours.

Estimated Average Burden per Respondent: 30 minutes.

Frequency of Response: On occasion.

Estimated Number of Respondents: 2,078.

By direction of the Secretary.
Cynthia Harvey-Pryor,
Department Clearance Officer, Office of Office of Quality, Privacy and Risk, Department of Veterans Affairs.

[FR Doc. 2018-02716 Filed 2-9-18; 8:45 am]

BILLING CODE 8320-01-P